DEPARTMENT OF ENERGY

Office of Fossil Energy; National Coal Council Advisory Committee

AGENCY: Department of Energy.

ACTION: Notice of open meeting.

SUMMARY: This notice announces a meeting of the National Coal Council Advisory Committee. Federal Advisory Committee Act (Public Law 92-463,86 Stat. 770) requires notice of these meetings be announced in the Federal Register.

DATES: Thursday, November 9, 2000, 9 a.m. to 12 N.

ADDRESSES: Crowne Plaza Hotel, 14th & K Streets, NW, Washington, DC.

FOR FURTHER INFORMATION CONTACT: Margie D. Biggerstaff, U.S. Department of Energy, Office of Fossil Energy, Washington, DC 20585. Phone: 202/586-3867.

SUPPLEMENTARY INFORMATION: Purpose of the Committee: To provide advice, information, recommendations to the Secretary of Energy on matters relating to coal and coal industry issues.

Tentative Agenda

• Call to order Mr. Steven F. Leer, Chairman.

• Remarks by Secretary of Energy, Bill Richardson (invited).

• Remarks by Mr. Robert S. Kripowicz, Acting Assistant Secretary for Fossil Energy.

• Administrative business.

• Presentation by Dr. Peter Jaffe, Princeton University, on Carbon Mitigation Initiatives.

• Presentation by Mr. Stuart Dalton, Electric Power Research Institute (EPRI), on EPRI's Global Coal Initiative.

• Presentation by Ms. Ann Cecchetti on Politics—Results of November 7 Election and Expectations for the Future.

• Other business.

• Adjournment.

Public Participation: The meeting is open to the public. The Chairperson of the Committee will conduct the meeting to facilitate the orderly conduct of business. If you would like to file a written statement with the Committee, you may do so either before or after the meeting. If you would like to make oral statements regarding any of the items on the agenda, you should contact Margie D. Biggerstaff at the address or telephone number listed above. You must make your request for an oral statement at least five business days prior to the meeting, and reasonable provisions will be made to include the presentation on the agenda. Public comment will follow the 10 minute rule.

Transcripts: The transcript will be available for public review and copying within 30 days at the Freedom of Information Public Reading Room, 1E-190, Forrestal Building, 1000 Independence Avenue, SW, Washington, DC, between 9 a.m. and 4 p.m., Monday through Friday, except Federal holidays.

Issued in Washington, DC on October 11, 2000.
Rachel M. Samuel,
Deputy Advisory Committee, Management Officer.

[FR Doc. 00-26455 Filed 10-13-00; 8:45 am]

BILLING CODE 6450-01-P